DEPARTMENT OF TRANSPORTATION

Federal Aviation Administration

14 CFR Part 39

[Docket No. FAA-2021-0712; Project Identifier 2019-CE-018-AD]

RIN 2120-AA64

Airworthiness Directives; ASI Aviation (Type Certificate Previously Held by Reims Aviation S.A.) Airplanes

AGENCY: Federal Aviation Administration (FAA), DOT.

ACTION: Notice of proposed rulemaking (NPRM).

SUMMARY: The FAA proposes to supersede Airworthiness Directive (AD) 2015-16-07 R1, which applies to certain Reims Aviation S.A. (type certificate now held by ASI Aviation) Model F406 airplanes. AD 2015-16-07 R1 requires inspecting the left-hand and right-hand rudder control pedal torque tubes and replacing with a serviceable part as necessary. Since the FAA issued AD 2015-16-07 R1, the European Aviation Safety Agency (EASA) superseded its mandatory continuing airworthiness information (MCAI) to correct an unsafe condition on these products. This proposed AD would retain the requirements of AD 2015-16-07 R1, expand the applicability, and require repeating the inspections using updated procedures. The FAA is proposing this AD to address the unsafe condition on these products.

DATES: The FAA must receive comments on this proposed AD by October 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact ASI Aviation, Aérodrome de Reims Prunay, 51360 Prunay, France; telephone: +33 3 26 48 46 84; fax: +33 3 26 49 18 57; email: contact@asi-aviation.fr; website: https://asi-aviation.fr/page-Accueil.html. You may view this service information at the Airworthiness Products Section, Operational Safety Branch, FAA, 901 Locust, Kansas City, MO 64106. For information on the availability of this material at the FAA, call (816) 329-4148.

Examining the AD Docket

You may examine the AD docket at https://www.regulations.gov by searching for and locating Docket No. FAA-2021-0712; or in person at Docket Operations between 9 a.m. and 5 p.m., Monday through Friday, except Federal holidays. The AD docket contains this NPRM, the MCAI, any comments received, and other information. The street address for Docket Operations is listed above.

FOR FURTHER INFORMATION CONTACT: Gregory Johnson, Aviation Safety Engineer, FAA, General Aviation & Rotorcraft Section, International Validation Branch, 901 Locust, Room 301, Kansas City, MO 64106; phone: (720) 626-5462; fax: (816) 329-4090; email: gregory.johnson@faa.gov.

SUPPLEMENTARY INFORMATION:

Comments Invited

The FAA invites you to send any written relevant data, views, or arguments about this proposal. Send your comments to an address listed under ADDRESSES. Include “Docket No. FAA-2021-0712; Project Identifier 2019-CE-018-AD” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gregory Johnson, Aviation Safety Engineer, FAA, General Aviation & Rotorcraft Section, International Validation Branch, 901 Locust, Room 301, Kansas City, MO 64106. Any commentary that the FAA receives which is not specifically designated as CBI will be placed in the public docket for this rulemaking.

Background

The FAA issued AD 2015-16-07 R1, Amendment 39-18328 (80 FR 72563, November 20, 2015) (AD 2015-16-07 R1), for certain serial-numbered Reims Aviation S.A. (type certificate now held by ASI Aviation) Model F406 airplanes. AD 2015-16-07 R1 was prompted by MCAI originated by EASA, which is the Technical Agent for the Member States of the European Union. EASA issued EASA AD 2015-0159R1, dated August 24, 2015, to identify and correct an unsafe condition identified as detachment of the pilot's rudder control pedal in flight.

AD 2015-16-07 R1 requires inspecting the left-hand and right-hand rudder control pedal torque tubes and replacing with a serviceable part as necessary. The FAA issued AD 2015-16-07 R1 to detect and correct cracking of the pilot rudder control pedal which, if not corrected, could result in detachment of the pedal with possible loss of airplane directional control. AD 2015-16-07 R1 revised AD 2015-16-07, Amendment 39-18232 (80 FR 49127, August 17, 2015) (AD 2015-16-07), by adding an option for acceptable serviceable replacement parts. AD 2015-16-07 R1 retained the compliance times required by AD 2015-16-07.

Actions Since AD 2015-16-07 R1 Was Issued

Since the FAA issued AD 2015-16-07 R1, EASA superseded EASA AD 2015-0159R1, dated August 24, 2015, and issued EASA AD 2019-0016, dated January 29, 2019 (referred to after this as “the MCAI”). The MCAI states:

An occurrence was reported where one pilot rudder control pedal of an F 406 aeroplane detached in flight. No change in aeroplane attitude occurred. The rudder was controlled using the co-pilot rudder pedals, and an uneventful landing was made. Investigation results determined that the affected rudder pedal torque tube had failed due to a crack.

This condition, if not detected and corrected, could lead to further cases of rudder pedal torque tube failure, possibly resulting in reduced control of the aeroplane.

To address this potential unsafe condition, ASI Aviation issued SB [service bulletin] F406-104 to provide inspection instructions. Consequently, EASA issued Emergency AD 2015-0159-E (later revised) to require a one-time inspection of the rudder control pedal torque tubes, both left-hand (LH) and right-hand (RH), and, depending on findings, replacement with a serviceable part. That [EASA] AD also required inspection of replacement rudder control pedal torque tubes before installation.

Since EASA AD 2015-0159R1 was issued, further occurrences were reported of finding cracks on rudder pedal torque tubes. Consequently, ASI Aviation issued the SB (as defined in this [EASA] AD) to provide instructions for repetitive visual, dye- or fluorescent-penetrant, and magnetic particle inspections.

For the reason described above, this [EASA] AD retains the requirements of EASA AD 2015-0159R1, which is superseded, and requires implementation of repetitive inspections of the affected parts and, depending on findings, replacement.

You may examine the MCAI in the AD docket at https://www.regulations.gov by searching for and locating Docket No. FAA-2021-0712.

Related Service Information Under 1 CFR Part 51

The FAA reviewed ASI Aviation Service Bulletin No. F406-104, Revision 1, dated December 14, 2018. The service information specifies procedures for repetitively inspecting the left-hand and right-hand rudder control pedal torque tubes for cracks and replacing with a serviceable part.

This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This proposed AD would retain the requirements of AD 2015-16-07 R1, expand the applicability, and require repetitive inspections (using improved procedures) of the left-hand and right-hand rudder control pedal torque tubes, and, depending on findings, replacement with a serviceable part.

Differences Between This Proposed AD and the MCAI

The MCAI specifies an initial compliance time of during the next 600 flight hour (FH) maintenance check for a visual and a dye or fluorescent penetrant inspection. This proposed AD would require those initial inspections before further flight.

The MCAI specifies an initial compliance time of during the next 2,400 FH maintenance check for a magnetic particle inspection. This proposed AD would require that initial inspection within 100 hours time-in-service after the effective date of this AD.

If a crack is detected during any inspection, the MCAI specifies contacting ASI Aviation for further information. This proposed AD would require replacing the rudder control pedal torque tube with a serviceable part.

Costs of Compliance

The FAA estimates that this proposed AD, if adopted as proposed, would affect 4 airplanes of U.S. registry.

The FAA estimates the following costs to comply with this proposed AD:

Estimated Costs
Action | Labor cost | Parts cost | Cost per airplane | Cost on U.S. operators
Inspections | 5 work-hours × $85 per hour = $425 per inspection cycle | $0 | $425 per inspection cycle | $1,700 per inspection cycle.

The FAA estimates the following costs to replace a rudder control pedal torque tube if required by the results of the proposed inspections. The FAA has no way of determining the number of airplanes that might need these replacements:

On-Condition Costs
Action | Labor cost | Parts cost | Cost per airplane
Replacement | 20 work-hours × $85 per hour = $1,700 | $9,100 | $10,800

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2015-16-07 R1, Amendment 39-18328 (80 FR 72563, November 20, 2015); and

b. Adding the following new airworthiness directive:

ASI Aviation (Type Certificate Previously Held by Reims Aviation S.A.): Docket No. FAA-2021-0712; Project Identifier 2019-CE-018-AD.

(a) Comments Due Date

The FAA must receive comments on this airworthiness directive (AD) by October 12, 2021.

(b) Affected ADs

This AD replaces AD 2015-16-07 R1, Amendment 39-18328 (80 FR 72563, November 20, 2015) (AD 2015-16-07 R1).

(c) Applicability

This AD applies to ASI Aviation (type certificate previously held by Reims Aviation S.A.) Model F406 airplanes, all serial numbers, certificated in any category.

(d) Subject

Joint Aircraft System Component (JASC) Code 2700, Flight Control System.

(e) Unsafe Condition

This AD was prompted by reports of detachment of the pilot's rudder control pedal in flight. The FAA is issuing this AD to detect and correct cracking of the pilot's rudder control pedal. The unsafe condition, if not addressed, could result in detachment of the pedal with possible loss of airplane directional control.

(f) Compliance

Comply with this AD within the compliance times specified, unless already done.

(g) Definition

For the purpose of this AD, a serviceable part is:

(1) A rudder control pedal torque tube (left-hand (LH) part number (P/N) 5115260-1 or right hand (RH) P/N 5115260-2) that has had a magnetic particle inspection by following the instructions of Part B of ASI Aviation Service Bulletin No. F406-104, Revision 1, dated December 14, 2018, and no cracks were found; or

(2) A new rudder control pedal torque tube (LH P/N 5115260-1 or RH P/N 5115260-2) that has never been installed on an airplane.

(h) Repetitive Inspections and Corrective Actions

(1) Before further flight after the effective date of this AD, and thereafter at intervals not to exceed 600 hours time-in-service (TIS), do a visual inspection and a dye or fluorescent penetrant inspection for cracks of the LH and RH rudder control pedal torque tubes by following the Accomplishment Instructions, Part A or Part AA, in ASI Aviation Service Bulletin No. F406-104, Revision 1, dated December 14, 2018.

(2) Within 100 hours TIS after the effective date of this AD, and thereafter at intervals not to exceed 2,400 hours TIS, do a magnetic particle inspection for cracks of the LH and RH rudder control pedal torque tubes by following the Accomplishment Instructions, Part B, in ASI Aviation Service Bulletin No. F406-104, Revision 1, dated December 14, 2018.

(3) If, during any inspection required by paragraph (h)(1) or (2) of this AD, any crack is detected on a rudder control pedal torque tube, you are not required to contact ASI Aviation as specified in steps A.16, AA.5, and B.4 of ASI Aviation Service Bulletin No. F406-104, Revision 1, dated December 14, 2018. Instead, before further flight, replace the rudder control pedal torque tube with a serviceable part as defined by this AD.

(i) Installation Limitation

As of the effective date of this AD, do not install a rudder control pedal torque tube P/N 5115260-1 (LH) or P/N 5115260-2 (RH) on any airplane unless it is a serviceable part as defined by this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information or email: 9-AVS-AIR-730-AMOC@faa.gov.

(2) Before using any approved AMOC, notify your appropriate principal inspector, or lacking a principal inspector, the manager of the local flight standards district office/certificate holding district office.

(k) Related Information

(1) For more information about this AD, contact Gregory Johnson, Aviation Safety Engineer, FAA, General Aviation & Rotorcraft Section, International Validation Branch, 901 Locust, Room 301, Kansas City, MO 64106; phone: (720) 626-5462; fax: (816) 329-4090; email: gregory.johnson@faa.gov.

(2) Refer to European Aviation Safety Agency (EASA) AD 2019-0016, dated January 29, 2019, for more information. You may examine the EASA AD in the AD docket at https://www.regulations.gov by searching for and locating it in Docket No. FAA-2021-0712.

(3) For service information identified in this AD, contact ASI Aviation, Aérodrome de Reims Prunay, 51360 Prunay, France; telephone: +33 3 26 48 46 84; fax: +33 3 26 49 18 57; email: contact@asi-aviation.fr; website: https://asi-aviation.fr/page-Accueil.html. You may view this service information at the Airworthiness Products Section, Operational Safety Branch, FAA, 901 Locust, Kansas City, MO 64106. For information on the availability of this material at the FAA, call (816) 329-4148.

Issued on August 20, 2021.
Lance T. Gant,
Director, Compliance & Airworthiness Division, Aircraft Certification Service.

[FR Doc. 2021-18384 Filed 8-26-21; 8:45 am]

BILLING CODE 4910-13-P